CONSUMER PRODUCT SAFETY COMMISSION

Petition Requesting Exemption For Certain Model Rocket Propellant Devices For Use With Ground Vehicles

AGENCY: Consumer Product Safety Commission.

ACTION: Notice.

SUMMARY: The Commission has received a petition (HP 01-2) requesting that the Commission exempt certain model rocket propellant devices for vehicles that travel on the ground. The Commission solicits written comments concerning the petition.

DATES: The Office of the Secretary must receive comments on the petition by May 7, 2001.

ADDRESSES: Comments, preferably in five copies, on the petition should be mailed to the Office of the Secretary, Consumer Product Safety Commission, Washington, DC 20207, telephone (301) 504-0800, or delivered to the Office of the Secretary, Room 501, 4330 East-West Highway, Bethesda, Maryland 20814. Comments may also be filed by telefacsimile to (301) 504-0127 or by email to cpsc-os@cpsc.gov. Comments should be captioned “Petition HP 01-2, Petition for Exemption for Model Rocket Propellant Devices for Ground Vehicles.” A copy of the petition is available for inspection at the Commission's Public Reading Room, Room 419, 4330 East-West Highway, Bethesda, Maryland.

FOR FURTHER INFORMATION CONTACT: Rockelle Hammond, Office of the Secretary, Consumer Product Safety Commission, Washington, DC 20207; telephone (301) 504-0800, ext. 1232.

SUPPLEMENTARY INFORMATION: The Commission has received correspondence from Centuri Corporation requesting that the Commission issue a rule exempting certain model rocket propellant devices (motors) to be used for model rocket ground vehicles. The petitioner wants an exemption for race cars that travel on the ground along a tethered line and are propelled as rockets. The Commission is docketing the correspondence as a petition under provisions of the Federal Hazardous Substances Act (“FHSA”), 15 U.S.C. 1261-1278.

Model rocket propellant devices use materials that would be considered hazardous substances under the FHSA. 15 U.S.C. 1261(f). The FHSA bans toys that contain a hazardous substance accessible by a child. Id. 1261(q)(1)(A). However, the FHSA gives the Commission authority to exempt from the definition of banned hazardous substance an article that requires inclusion of a hazardous substance in order to function, has labeling giving adequate directions and warnings for safe use, and is intended for children who are mature enough that they may reasonably be expected to read and heed the directions and warnings. Id. Under this authority, the Commission's existing regulations exempt model rocket propellant devices designed for use in light-weight, recoverable, and reflyable model rockets, if they meet certain requirements. 16 CFR 1500.85(a)(8). The petitioner asks that similar requirements apply to certain propellant devices used for model rocket vehicles that would travel on the ground along a tethered line so that they too would be exempt from the definition of banned hazardous substance.

Interested parties may obtain a copy of the petition by writing or calling the Office of the Secretary, Consumer Product Safety Commission, Washington, DC 20207; telephone (301) 504-0800. A copy of the petition is also available for inspection from 8:30 a.m. to 5 p.m., Monday through Friday, in the Commission's Public Reading Room, Room 419, 4330 East-West Highway, Bethesda, Maryland.

Dated: March 5, 2001.
Sadye E. Dunn,
Secretary, Consumer Product Safety Commission.

[FR Doc. 01-5762 Filed 3-7-01; 8:45 am]

BILLING CODE 6355-01-P